DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Industry and Security (BIS).

Title: Application for NATO International Competitive Bidding.

Agency Form Number: N/A.

OMB Approval Number: 0694-none.

Type of Request: New collection of information.

Burden: 40 hours.

Average Time Per Response: 1 hour per response.

Number of Respondents: 40 respondents.

Needs and Uses: All U.S. firms desiring to participate in the NATO International Competitive Bidding (ICB) process under the NATO Security Investment Program (NSIP) must be certified as technically, financially and professionally competent. The U.S. Department of Commerce is the agency that provides the Statement of Eligibility that certifies these firms. Any such firm seeking certification is required to submit a completed Form ITA-4023P (or Form BIS-4023P) along with a current annual financial report and a resume of past projects in order to become certified and placed on the Consolidated List of Eligible Bidders. The information provided on the ITA-4023P (or BIS-4023P) form is used to certify the U.S. firm for placement on the bidder's list database.

Affected Public: Individuals, businesses or other for-profit institutions.

Respondent's Obligation: Mandatory.

OMB Desk Officer: David Rostker.

Copies of the above information collection proposal can be obtained by calling or writing Diana Hynek, Departmental Paperwork Clearance Officer, Office of the Chief Information Officer, 202-482-0266, Department of Commerce, Room 6625, 14th and Constitution Avenue, NW., Washington, DC 20230.

Written comments and recommendations for the proposed information collection should be sent within 30 days of publication of this notice to David Rostker, OMB Desk Officer, Room 10202, New Executive Office Building, Washington, DC 20230.

Dated: February 19, 2004.
Madeleine Clayton,
Management Analyst, Office of the Chief Information Officer.

[FR Doc. 04-4074 Filed 2-24-04; 8:45 am]

BILLING CODE 3510-33-P